DEPARTMENT OF HEALTH AND HUMAN SERVICES

Office of Inspector General

Healthcare Integrity and Protection Data Bank: Change in Self-Query Fee

AGENCY: Office of Inspector General (OIG), HHS.

ACTION: Notice.

SUMMARY: The Department is authorized under 45 CFR part 61, the regulations implementing the Healthcare Integrity and Protection Data Bank (HIPDB), to assess a fee on all requests for information, except requests from Federal agencies. In accordance with the HIPDB regulations, we are announcing a two-dollar decrease in the fee to practitioners, providers, and suppliers who request information about themselves (self-query) from the HIPDB. The new fee to self-query the HIPDB will be $8.00. There will be no change to the $4.25 charged for each query submitted by authorized entities to access the data bank.

EFFECTIVE DATE: The fee is effective on July 1, 2004.

FOR FURTHER INFORMATION CONTACT: Joel Schaer, Office of Management and Policy, (202) 619-0089.

SUPPLEMENTARY INFORMATION:

User Fee Amount

Section 1128E(d)(2) of the Social Security Act (the Act), as added by section 221(a) of the Health Insurance Portability and Accountability Act (HIPAA) of 1996, specifically authorizes the establishment of fees for the costs of processing requests for disclosure and for providing information from the Healthcare Integrity and Protection Data Bank (HIPDB). Final regulations at 45 CFR part 61 set forth the criteria and procedures for information to be reported to and disclosed by the HIPDB. The Act also requires that the Department recover the full costs of operating the HIPDB through such user fees. In determining any changes in the amount of the user fee, the Department employs the criteria set forth in § 61.13(b) of the HIPDB regulations.

Specifically, § 61.13(b) states that the amount of each fee will be determined based on the following criteria:

• Direct and indirect personnel costs;

• Physical overhead, consulting, and other indirect costs including rent and depreciation on land, buildings and equipment;

• Agency management and supervisory costs;

• Costs of enforcement, research and establishment of regulations and guidance;

• Use of electronic data processing equipment to collect and maintain information, i.e., the actual cost of the service, including computer search time, runs and printouts; and

• Any other direct or indirect costs related to the provision of services.

The current fee structure of $10.00 for each self-query by a practitioner, provider, or suppler was announced in a Federal Register notice on March 3, 2000 (65 FR 11589). Based on the above criteria and our analysis of operational costs and the comparative costs of the various methods for filing and paying for queries, the Department is now lowering the self-query fee by two dollars—from $10.00 to $8.00.

When an authorized self-query is submitted for information by a practitioner, provider, or supplier, the appropriate total fee will be $8.00 multiplied by the number of individuals or organizations about whom the information is being requested.

In order to minimize administrative costs, the Department will continue to accept payment for self-queries only by credit card. The HIPDB accepts Visa, MasterCard, and Discover. To submit queries, practitioners, providers, and suppliers must use the HIPDB Web site at http://www.npdb-hipdb.com.

The Department will continue to review user fees periodically for the HIPDB, and will revise such fees as necessary. Any future changes in fees and their effective date will be announced through notice in the Federal Register.

Examples

Query method | Fee per name in query, by method of payment | Examples
Self-query | $8.00 | 10 self-queries: 10 × $8.00 = $80.00.

Dated: April 12, 2004.
Dara Corrigan,
Acting Principal Deputy Inspector General.

[FR Doc. 04-10330 Filed 5-5-04; 8:45 am]

BILLING CODE 4152-01-P